DEPARTMENT OF ENERGY

Federal Energy Regulatory Commission

Combined Notice of Filings

Take notice that the Commission has received the following Natural Gas Pipeline Rate and Refund Report filings:

Filings Instituting Proceedings

Docket Numbers: RP12-181-000.

Applicants: Southern Star Central Gas Pipeline, Inc.

Description: Southern Star Central Gas Pipeline, Inc. Annual OFO Report.

Filed Date: 11/29/11.

Accession Number: 20111129-5077.

Comments Due: 5 p.m. ET 12/12/11.

Docket Numbers: RP12-182-000.

Applicants: Southern Natural Gas Company, L.L.C.

Description: Annual Storage Cost Reconciliation Mechanism Report of Southern Natural Gas Company, L.L.C.

Filed Date: 11/29/11.

Accession Number: 20111129-5156.

Comments Due: 5 p.m. ET 12/12/11.

Docket Numbers: RP12-183-000.

Applicants: Midwestern Gas Transmission Company.

Description: Submits tariff filing per 154.204: Amendment to Non-Conforming Agreement FA0916 to be effective 11/19/2011.

Filed Date: 11/29/11.

Accession Number: 20111129-5157.

Comments Due: 5 p.m. ET 12/12/11.

Docket Numbers: RP12-184-000.

Applicants: Kinder Morgan Interstate Gas Transmission LLC.

Description: Negotiated Rate 2011-11-29 MGE to be effective 12/1/2011.

Filed Date: 11/29/11.

Accession Number: 20111129-5158.

Comments Due: 5 p.m. ET 12/12/11.

Docket Numbers: RP12-185-000.

Applicants: National Fuel Gas Supply Corporation.

Description: TSCA for 2012 to be effective 1/1/2012.

Filed Date: 11/30/11.

Accession Number: 20111130-5044.

Comments Due: 5 p.m. ET 12/12/11.

Docket Numbers: RP12-186-000.

Applicants: Southern Star Central Gas Pipeline, Inc.

Description: Southern Star Central Gas Pipeline, Inc. Annual Cash-Out Refund Report.

Filed Date: 11/30/11.

Accession Number: 20111130-5045.

Comments Due: 5 p.m. ET 12/12/11.

Docket Numbers: RP12-187-000.

Applicants: Gulf South Pipeline Company, LP.

Description: HK 37731 to Texla 39417 Capacity Release Negotiated Rate Agreement Filing to be effective 12/1/2011.

Filed Date: 11/30/11.

Accession Number: 20111130-5089.

Comments Due: 5 p.m. ET 12/12/11.

Docket Numbers: RP12-188-000.

Applicants: Gulf South Pipeline Company, LP.

Description: HK 37731 to Sequent 39419 Capacity Release Negotiated Rate Agreement Filing to be effective 12/1/2011.

Filed Date: 11/30/11.

Accession Number: 20111130-5090.

Comments Due: 5 p.m. ET 12/12/11.

Docket Numbers: RP12-189-000.

Applicants: Algonquin Gas Transmission, LLC.

Description: Submits tariff filing per 154.204: ConEd 2011-12-01 Releases #1 to be effective 12/1/2011.

Filed Date: 11/30/11.

Accession Number: 20111130-5111.

Comments Due: 5 p.m. ET 12/12/11.

Docket Numbers: RP12-190-000.

Applicants: El Paso Natural Gas Company.

Description: Submits tariff filing per 154.403: Article 11.2 Inflation Filing to be effective 1/1/2012.

Filed Date: 11/30/11.

Accession Number: 20111130-5131.

Comments Due: 5 p.m. ET 12/12/11.

Docket Numbers: RP12-191-000.

Applicants: CenterPoint Energy Gas Transmission Company LLC

Description: Submits tariff filing per 154.204: CEGT LLC—Negotiated Rate—December 2011 to be effective 12/1/2011.

Filed Date: 11/30/11.

Accession Number: 20111130-5132.

Comments Due: 5 p.m. ET 12/12/11.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2137-002.

Applicants: Dominion Cove Point LNG, LP.

Description: DCP-2011 Section 4 General Rate Case Motion to be effective 12/1/2011.

Filed Date: 11/21/11.

Accession Number: 20111121-5108.

Comments Due: 5 p.m. ET 12/5/11.

Docket Numbers: RP11-2568-001.

Applicants: Columbia Gas Transmission, LLC.

Description: South Jersey Compliance Filing to be effective 11/1/2011.

Filed Date: 11/21/11.

Accession Number: 20111121-5037.

Comments Due: 5 p.m. ET 12/5/11.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 30, 2011.
Nathaniel J. Davis, Sr.
Deputy Secretary

[FR Doc. 2011-31385 Filed 12-6-11; 8:45 am]

BILLING CODE 6717-01-P